DEPARTMENT OF HEALTH AND HUMAN SERVICES

Submission for OMB Review; Comment Request; Partner and Customer Satisfaction Surveys

SUMMARY: Under the provisions of Section 3507(a)(l)(D) of the Paperwork Reduction Act of 1995 for the opportunity for public comment on the proposed data collection projects, the Center for Scientific Review (CSR), National Institutes of Health (NIH), has submitted to the Office of Management and Budget (OMB) a request to review and approve the information collection listed below. The purpose of this notice is to allow 30 days for public comment. The National Institutes of Health may not conduct or sponsor and the respondent is not required to respond to, an information collection that has been extended, revised, or implemented on or after October 1, 1995, unless it displays a currently valid OMB control number.

PROPOSED COLLECTION:

Title: Reinstatement of Generic Clearance for Voluntary Partner and Customer Satisfaction Surveys.

Type of Information Collection Request: Reinstatement.

Need and Use of Information Collection: The information collected in these surveys will be used by the Center for Scientific Review management and personnel: (1) To assess the quality of the modified operations and processes now used by CSR to review grant applications; (2) To assess the quality of service provided by CSR to our customers; (3) To enable identification of the most promising biomedical research that will have the greatest impact on improving public health by using a peer review process that is fair, unbiased from outside influence, timely, and (4) To develop new modes of operation based on customer need and customer feedback about the efficacy of implemented modifications. These surveys will almost certainly lead to quality improvement activities to enhance and/or streamline CSR's operations. The major mechanism by which CSR will request input is through surveys. The major initiatives ongoing at the present time include: shortening the review and application process, shortening the grant application, recruiting the best reviewers by developing additional review modes, improving study section alignment to ensure the best reviews, and others. Surveys will be collected via Internet. Information gathered from these surveys will be presented to, and used directly by, CSR management to enhance the operations, processes, organization of, and services provided by the Center.

Frequency of Response: The participants will respond once, unless there is a compelling reason for a subsequent survey.

Affected public: Universities, not-for-profit institutions, business or other for-profit, small businesses and organizations, and individuals.

Type of Respondents: Adult scientific professionals.

Estimates of Annualized Hour Burden
Instrument/Activity | Annual number of respondents | Number of responses per respondent | Annual average burden per response | Total burden hours per annual collection
Focus Groups | 75 | 1 | 2.5 hours | 187.5 hours
Mail/telephone/e-mail Surveys | 5,000 | 1 | 0.25 hours | 1,250 hours
Annual Total | 5,075 |  |  | 1,437.5 hours per year

Requests for Comments: Written comments and/or suggestions from the public and affected agencies are invited on one or more of the following points: (1) Whether the proposed collection of information is necessary for the proper performance of the functions of the CSR, including whether the information will have practical utility; (2) The accuracy of the agency's estimate of the burden of the proposed collection of information, including the validity of the methodology and assumptions used; (3) Ways to enhance the quality, utility, and clarity of the information to be collected; and (4) Ways to minimize the burden of the collection of information on those who are to respond while maintaining their anonymity, including the use of automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov, or by fax to 202-395-6974, Attention: Desk Officer for NIH. To request more information on the proposed project or to obtain a copy of the data collection plans and instruments, contact Dr. Andrea Kopstein, Director of Planning, Analysis, and Evaluation, Center for Scientific Review, NIH, Room 3030, 6701 Rockledge Drive, Bethesda, MD 20892-7776, or call non-toll-free number 301-435-1133 or E-mail your request, including your address to: kopsteina@csr.nih.gov.

Comments Due Date: Comments regarding this information collection are best assured of having their full effect if received within 30-days of the date of this publication.

Dated: June 23, 2008.
Andrea Kopstein,
Director of Planning, Analysis, and Evaluation, CSR, National Institutes of Health.

[FR Doc. E8-14920 Filed 7-1-08; 8:45 am]

BILLING CODE 4140-01-P